DEPARTMENT OF JUSTICE

Bureau of Prisons

28 CFR Part 513

[BOP-1100-P]

RIN 1120-AA96

Freedom of Information Act and Privacy Act Requests: Removal of Rules

AGENCY: Bureau of Prisons, Justice.

ACTION: Proposed rule.

SUMMARY: The Bureau of Prisons (Bureau) proposes to revise its Freedom of Information Act and Privacy Act regulations. We propose to eliminate rules pertaining to inmate requests to institutions for information, as these regulations pertain to internal agency practice and procedure and do not directly relate to the Freedom of Information Act (FOIA) or the Privacy Act (PA). We also propose to remove the remainder of our regulations regarding PA and FOIA requests for information. These rules merely reiterate and paraphrase general Department of Justice FOIA/PA regulations in 28 CFR part 16 and are therefore unnecessary in Bureau regulations.

DATES: Comments due by July 14, 2003.

ADDRESSES: Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION: The Bureau proposes to amend its regulations on the Freedom of Information Act and Privacy Act (28 CFR part 513, subpart D). We published current regulations on this subject in the Federal Register on December 9, 1996 (61 FR 64950).

We now propose to eliminate our regulations regarding PA and FOIA requests for information (28 CFR 513.30-513-36 and 513.50-68). These rules merely reiterate and paraphrase general Department of Justice FOIA/PA regulations in 28 CFR part 16 and are not, therefore, necessary in Bureau regulations.

Further, we also propose to eliminate rules pertaining to inmate requests (28 CFR 513.40-513.44) to institutions for information, as these regulations pertain to internal agency practice and procedure and do not directly relate to the Freedom of Information Act (FOIA) or the Privacy Act (PA).

Sections 513.40-513.44 of our current regulations are under the undesignated subheading “Inmate Requests to Institutions for Information.” In this proposed rule, we removed these regulations because (1) they largely relate to internal agency procedures and directions to institution staff, (2) they cover procedures which are and will remain part of current Bureau policy, and (3) by removing them, we do not remove an inmate's ability to request information from institution staff without filing a FOIA request.

You can send written comments on this proposed rule to the Rules Unit, Office of General Counsel, Bureau of Prisons, 320 First Street, NW., Washington, DC 20534.

We will consider comments we get during the comment period before we take final action. If we can, we will try to consider comments we get after the end of the comment period. In light of comments we get, we may change the proposed rule.

We do not plan to have oral hearings on this proposed rule. All the comments we get remain on file for public inspection at the above address.

Executive Order 12866

We drafted and reviewed this regulation reviewed in accordance with Executive Order 12866, “Regulatory Planning and Review”, section 1(b), Principles of Regulation. The Director has determined that this rule is not a “significant regulatory action” under Executive Order 12866, section 3(f), and accordingly this rule was not reviewed by the Office of Management and Budget.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: This rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 513

Prisoners.

Harley G. Lappin,
Director, Bureau of Prisons.

Under the rulemaking authority of the Attorney General in 5 U.S.C. 552(a) and delegated to the Director of the Bureau of Prisons, we propose to amend 28 CFR part 513, subpart D, as follows.

SUBCHAPTER A—GENERAL MANAGEMENT AND ADMINISTRATION

PART 513—ACCESS TO RECORDS

1. Revise the authority citation for 28 CFR part 513 to read as follows:

Authority: 5 U.S.C. 301; 13 U.S.C.; 18 U.S.C. 3621, 3622, 3624, 4001, 4942, 4081, 4082 (Repealed in part as to conduct occurring on or after November 1, 1987), 5006-5024 (Repealed October 12, 1984, as to conduct occurring after that date), 5039; 28 U.S.C. 509, 510; 31 U.S.C. 3711(f); 5 CFR part 297.

§§ 513.30-513.68 (Subpart D) [Removed and reserved]

2. Remove and reserve Subpart D (§§ 513.30-513.68).

[FR Doc. 03-11539 Filed 5-12-03; 8:45 am]

BILLING CODE 4410-05-U